DEPARTMENT OF ENERGY

Federal Energy Regulatory Commission

[Docket No. QF08-580-000]

Georgia-Pacific Brewton, LLC; Notice of Filing of Notice of Self-Certification of Qualifying Status of a Cogeneration Facility

July 30, 2008.

Take notice that on May 29, 2008, Georgia-Pacific Brewton LLC (GP), 32224 Highway 31, Brewton, Alabama 36426, filed with the Federal Energy Regulatory Commission a notice of self-certification of a facility as a qualifying cogeneration facility pursuant to 18 CFR 292.207(a) of the Commission's regulations.

GP states that the facility in question is a topping-cycle cogeneration facility with primary energy sources of black liquor and natural gas. The cogeneration facility consists of three recovery boilers, three power boilers, and three steam turbines to generate electricity and process heat to serve the resident paper mill. The facility is located in Brewton, Alabama.

GP further states that the facility is interconnected to Alabama Power Corporation (APC), and expects from time-to-time to sell energy to or purchase supplementary, standby, back-up, and maintenance power from APC.

A notice of self-certification does not institute a proceeding regarding qualifying facility status; a notice of self-certification provides notice that the entity making filing has determined the Facility meets the applicable criteria to be a qualifying facility. Any person seeking to challenge such qualifying facility status may do so by filing a motion pursuant to 18 CFR 292.207(d)(iii).

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E8-18062 Filed 8-6-08; 8:45 am]

BILLING CODE 6717-01-P